DEPARTMENT OF COMMERCE

Foreign-Trade Zones Board

[B-2-2013]

Foreign-Trade Zone 117—Orange, TX, Authorization of Production Activity, Signal International Texas GP, LLC (Shipbuilding), Orange, TX

On January 10, 2013, the Foreign Trade Zone of Southeast Texas, Inc., grantee of FTZ 117, submitted a notification of proposed production activity to the Foreign-Trade Zones (FTZ) Board on behalf of Signal International Texas GP, LLC, in Orange, Texas.

The notification was processed in accordance with the regulations of the FTZ Board (15 CFR part 400), including notice in the Federal Register inviting public comment (78 FR 4383, 1-22-2013). The FTZ Board has determined that no further review of the activity is warranted at this time. The production activity described in the notification is authorized, subject to the FTZ Act and the Board's regulations, including Section 400.14, and the following special conditions:

1. Any foreign steel mill product admitted to the subzone, including plate, angles, shapes, channels, rolled steel stock, bars, pipes and tubes, not incorporated into merchandise otherwise classified, and which is used in manufacturing, shall be subject to customs duties in accordance with applicable law, unless the Executive Secretary determines that the same item is not then being produced by a domestic steel mill.

2. Signal International Texas GP, LLC, shall meet its obligation under 15 CFR 400.13(b) by annually advising the Board's Executive Secretary as to significant new contracts with appropriate information concerning foreign purchases otherwise dutiable, so that the Board may consider whether any foreign dutiable items are being imported for manufacturing in the subzone primarily because of FTZ procedures and whether the Board should consider requiring customs duties to be paid on such items.

Dated: May 10, 2013.
Andrew McGilvray,
Executive Secretary.

[FR Doc. 2013-11686 Filed 5-15-13; 8:45 am]

BILLING CODE 3510-DS-P